ENVIRONMENTAL PROTECTION AGENCY

40 CFR Part 300

[FRL-7652-9]

National Oil and Hazardous Substances Contingency Plan; National Priorities List Update

AGENCY: Environmental Protection Agency.

ACTION: Notice of partial deletion of the West Virginia Ordnance Works Site from the National Priorities List.

SUMMARY: The Environmental Protection Agency (EPA) Region III announces the partial deletion of portions of the West Virginia Ordnance Works (WVOW) site from the National Priorities List (NPL). The NPL constitutes appendix B of 40 CFR part 300, which is the National Oil and Hazardous Substances Contingency Plan (NCP), which EPA promulgated pursuant to section 105 of the Comprehensive Environmental Response, Compensation and Liability Act of 1980 (CERCLA), as amended. EPA and the State of West Virginia have determined that all appropriate responses under CERCLA have been implemented at the portions of the site being deleted from the NPL and that no further cleanup by responsible parties is appropriate. Moreover, EPA and the State of West Virginia have determined that response actions conducted at the site to date remain protective of public health, welfare, and the environment.

DATES: Effective Date: April 26, 2004.

ADDRESSES: Comprehensive information on this release is available for viewing at the site information repositories at the following locations:

Mason County Public Library, 508 Viand Street, Point Pleasant, WV 25550, (304) 675-0894. Hours of Operation: Monday through Thursday, 10 a.m.-8 p.m., and Friday through Saturday, 10 a.m.-5 p.m.

U.S. EPA Region III Library, 1650 Arch Street, Philadelphia, PA 19103-2029, (215) 814-5254. Hours of Operation: Monday through Friday, 8 a.m.-5 p.m.

U.S. Army Corps of Engineers, Huntington District, 502 8th Street, Huntington, WV 25701, (800) 822-8413 or (304) 399-5388. Hours of Operation: Monday through Friday, 8 a.m.-4:30 p.m.

FOR FURTHER INFORMATION CONTACT: Mr. Jack Potosnak, PE, Remedial Project Manager, U.S. EPA Region III (3HS13), 1650 Arch Street, Philadelphia, PA 19103-2029, (215) 814-3362.

SUPPLEMENTARY INFORMATION: The portions of the site to be deleted from the NPL are the Operable Unit 10 (OU-10) South Acids Area, Cooling Tower Area, and Toluene Storage Areas; the Expanded Site Investigation 1 (ESI-1) Magazine Area; the ESI-4 Red Water Outfall Sewer; the ESI-6 Motorpool/Maintenance Area; and the ESI-7 Former Sewage Treatment Plant.

A Notice of Intent to Delete for this site was published March 3, 2004 (69 FR 9988). The closing date for comments on the Notice of Intent to Delete was April 2, 2004. EPA received no comments.

EPA identifies releases which appear to present a significant risk to public health, welfare, or the environment, and it maintains the NPL as the list of those releases. Releases on the NPL may be the subject of remedial actions financed by the Hazardous Substance Superfund. Any release deleted from the NPL remains eligible for Fund-financed remedial actions in the unlikely event that conditions at the site warrant such action. Section 300.425(e)(3) of the NCP states that Fund-financed actions may be taken at sites deleted from the NPL. Deletion of a site from the NPL does not affect responsible party liability or impede agency efforts to recover costs associated with response efforts.

List of Subjects in 40 CFR Part 300

Environmental protection, Chemicals, Hazardous substances, Hazardous waste, Intergovernmental relations, Reporting and recordkeeping requirements, Superfund.

Dated: April 15, 2004.
Richard J. Kampf,
Acting Regional Administrator, U.S. Environmental Protection Agency, Region III.

[FR Doc. 04-9286 Filed 4-23-04; 8:45 am]

BILLING CODE 6560-50-P